DEPARTMENT OF COMMERCE

International Trade Administration

[A-602-807, A-351-842, A-570-022, C-570-023, A-560-828, C-560-829, A-471-807]

Certain Uncoated Paper From Australia, Brazil, the People's Republic of China, Indonesia, and Portugal: Affirmative Preliminary Determination of Circumvention of the Antidumping and Countervailing Duty Orders

AGENCY: Enforcement and Compliance, International Trade Administration, Department of Commerce.

DATES: Effective June 9, 2017.

SUMMARY: The Department of Commerce (Department) preliminarily determines that imports of uncoated paper with a GE brightness of 83 +/−1% (83 Bright paper), otherwise meeting the description of in-scope merchandise, from Australia, Brazil, the People's Republic of China, Indonesia, and Portugal constitute merchandise “altered in form or appearance in minor respects” from in-scope merchandise that should be considered subject to the antidumping (AD) and countervailing duty (CVD) Orders on certain uncoated paper (uncoated paper).¹

¹ See Certain Uncoated Paper from Australia, Brazil, Indonesia, the People's Republic of China, and Portugal: Amended Final Affirmative Antidumping Determinations for Brazil and Indonesia and Antidumping Duty Orders; 81 FR 11174 (March 3, 2016) and Certain Uncoated Paper from Indonesia and the People's Republic of China: Amended Final Affirmative Countervailing Duty Determination and Countervailing Duty Order (Indonesia) and Countervailing Duty Order (People's Republic of China); 81 FR 11187, (March 3, 2016) (collectively, the Orders).

FOR FURTHER INFORMATION CONTACT: William Miller at (202) 482-3906, AD/CVD Operations, Enforcement and Compliance, U.S. Department of Commerce, 1401 Constitution Avenue NW., Washington, DC 20230.

SUPPLEMENTARY INFORMATION:

Scope of the Orders

The merchandise covered by the orders is uncoated paper. Uncoated paper subject to the orders is currently classifiable in the Harmonized Tariff Schedule of the United States (HTSUS) at subheadings 4802.56.1000, 4802.56.2000, 4802.56.3000, 4802.56.4000, 4802.56.6000, 4802.56.7020, 4802.56.7040, 4802.57.1000, 4802.57.2000, 4802.57.3000, and 4802.57.4000. Some imports of subject merchandise may also be classified under 4802.62.1000, 4802.62.2000, 4802.62.3000, 4802.62.5000, 4802.62.6020, 4802.62.6040, 4802.69.1000, 4802.69.2000, 4802.69.3000, 4811.90.8050 and 4811.90.9080. The HTSUS subheadings are provided for convenience and customs purposes; the written description of the scope of the Orders is dispositive.²

² A full description of the scope of the Orders is contained in the memorandum, “Preliminary Decision Memorandum for the Affirmative Preliminary Determination of Circumvention of the Antidumping and Countervailing Duty Orders on Certain Uncoated Paper from Australia, Brazil, the People's Republic of China, Indonesia, and Portugal,” dated concurrently with, and hereby adopted by, this notice (Preliminary Decision Memorandum).

Scope of the Anti-Circumvention Inquiry

The merchandise subject to this anti-circumvention inquiry consists of 83 Bright paper with a GE brightness of 83 +/−1%, and otherwise meeting the description of the scope of the Orders. On August 1, 2016, the petitioners clarified that, consistent with 19 CFR 351.225(m), they intended for the Department to conduct a single anti-circumvention inquiry and issue a single ruling applicable to each of the Orders. Therefore, in accordance with 19 CFR 351.225(m), we find it appropriate to apply the results of this inquiry to each of the Orders.³

³ See Certain Uncoated Paper from Australia, Brazil, Indonesia, the People's Republic of China, and Portugal: Initiation of Anti-Circumvention Inquiry; 81 FR 78117 (November 7, 2016).

Methodology

The Department has made this affirmative preliminary anti-circumvention determination in accordance with section 781(c) of the Tariff Act of 1930, as amended (the Act), and 19 CFR 351.225(i). For a full description of the methodology underlying our conclusions, see the Preliminary Decision Memorandum.

The Preliminary Decision Memorandum is on file electronically via Enforcement and Compliance's Antidumping and Countervailing Duty Centralized Electronic Service System (ACCESS). ACCESS is available to registered user at https://access.trade.gov and is available to all parties in the Central Records Unit, room B-8024 of the main Department of Commerce building. In addition, a complete public version of the Preliminary Decision Memorandum can be accessed directly at http://enforcement.trade.gov/frn/index.html. The signed and electronic versions of the Preliminary Decision Memorandum are identical in content.

Preliminary Determination

As detailed in the Preliminary Decision Memorandum, we preliminarily determine, pursuant to section 781(c) of the Act and 19 CFR 351.225(i), that imports of 83 Bright paper, otherwise meeting the description of in-scope merchandise, constitute merchandise “altered in form or appearance in minor respects” from in-scope merchandise that should be considered subject to the Orders.

Suspension of Liquidation

In accordance with 19 CFR 351.225(l)(2), we are directing U.S. Customs and Border Protection (CBP) to suspend liquidation of entries of 83 Bright Paper entered, or withdrawn from warehouse, for consumption on or after November 7, 2016, the date of publication of the initiation of this inquiry. We will also instruct CBP to require a cash deposit of estimated duties at the applicable rates for each unliquidated entry of the product entered, or withdrawn from warehouse, for consumption on or after November 7, 2016, in accordance with 19 CFR 351.225(l)(2).

Public Comment

Pursuant to 19 CFR 351.309(c), interested parties may submit case briefs not later than 15 days after the date of issue of this notice. Pursuant to 19 CFR 351.309(d), rebuttal briefs, limited to issues raised in the case briefs, may be filed not late than five days after the date for filing case briefs. Parties who submit case briefs or rebuttal briefs in this proceeding are encouraged to submit with each argument: (1) A statement of the issue; (2) a brief summary of the argument; and (3) a table of authorities.

Pursuant to 19 CFR 351.310(c), interested parties who wish to request a hearing, or to participate if one is requested, must submit a written request to the Assistant Secretary for Enforcement and Compliance, filed electronically via ACCESS. An electronically filed document must be received successfully in its entirety by ACCESS, by 5 p.m. Eastern Time within 15 days after the date of issue of this notice. Requests should contain: (1) The party's name, address, and telephone number; (2) the number of participants; and (3) a list of issues to be discussed. Issues raised in the hearing will be limited to those raised in the respective case briefs.

Final Determination

Pursuant to section 781(f) of the Act, we intend to issue the final determination with respect to this anti-circumvention inquiry, including the results of the Department's analysis of any written comments, no later than August 28, 2017.

This preliminary determination of circumvention is in accordance with section 781(c) of the Act and 19 CFR 351.225.

Dated: June 2, 2017.
Ronald K. Lorentzen,
Acting Assistant Secretary for Enforcement and Compliance.

[FR Doc. 2017-12001 Filed 6-8-17; 8:45 am]

BILLING CODE 3510-DS-P